FEDERAL COMMUNICATIONS COMMISSION

47 CFR Part 73

[DA 03-2432, MB Docket No. 03-174, RM-10754]

Radio Broadcasting Services; Ehrenberg, Arizona

AGENCY: Federal Communications Commission.

ACTION: Proposed rule.

SUMMARY: This document requests comments on a petition for rule making filed by Daniel R. Feely proposing the allotment of Channel 286C2 at Ehrenberg, Arizona, as the community's first local aural transmission service. The coordinates for Channel 286C2 at Ehrenberg, Arizona are 33-48-00 NL and 114-19-12 WL. There is a site restriction 28.8 kilometers (17.9 miles) northeast to avoid short-spacing to the license sites of Station KBUX, Channel 232A, Quartzsite, Arizona and Mexican Station XHMC-FM, Channel 285B, Mexicali, BN. Since Ehrenberg is located within 320 kilometers (199 miles) of the U.S.-Mexican border, Mexican concurrence has been requested.

DATES: Comments must be filed on or before September 15, 2003, and reply comments on or before September 30, 2003.

ADDRESSES: Federal Communications Commission, 445 Twelfth Street, SW., Washington, DC 20554. In addition to filing comments with the FCC, interested parties should serve the petitioner, as follows: Daniel R. Feely, 682 Palisade Street, Pasadena, California 91103.

FOR FURTHER INFORMATION CONTACT: Rolanda F. Smith, Media Bureau, (202) 418-2180.

SUPPLEMENTARY INFORMATION: This is a summary of the Commission's Notice of Proposed Rule Making, MB Docket No. 03-174, adopted July 23, 2003, and released July 25, 2003. The full text of this Commission decision is available for inspection and copying during normal business hours in the Commission's Reference Center, 445 Twelfth Street, SW., Washington, DC 20554. The complete text of this decision may also be purchased from the Commission's duplicating contractor, Qualex International Portals II, 445 12th Street, SW., Room CY-B402, Washington, DC, 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arizona, is amended by adding Ehrenberg, Channel 286C2.

Federal Communications Commission.
John A. Karousos,
Assistant Chief, Audio Division, Media Bureau.

[FR Doc. 03-20213 Filed 8-7-03; 8:45 am]

BILLING CODE 6712-01-P